DEPARTMENT OF ENERGY

Submission for OMB Review, Comment Request

AGENCY: Department of Energy.

ACTION: Agency information collection extensions.

SUMMARY: The Department of Energy (DOE) is submitting an information collection package to the Office of Management and Budget (OMB) for renewal under the Paperwork Reduction Act of 1995. The package requests a 3-year extension of its Security information collection (formerly known as Safeguards and Security), OMB Control Number 1910-1800. The package covers collections of information concerning the management and administration of DOE's Government-owned/contractor-operated facilities (GOCO's), offsite contractors, businesses and citizens. The information is used by Departmental management to exercise management oversight as to the implementation of applicable statutory and contractual requirements and obligations. The collection of this information is critical to ensure that the Government has sufficient information to judge the degree to which contractors meet contractual requirements; that public funds are being spent in the manner intended; and that fraud, waste, and abuse are immediately detected and eliminated. These collections provide information concerning the Department's security program. Typical information collected in this package pertains to material control and accountability, security incident investigations, and protection of unclassified and classified documents.

DATES: Comments regarding this information collection package should be submitted to the OMB Desk no later than February 6, 2003. If you anticipate that you will be submitting comments, but find it difficult to do so within the period of time allowed by this notice, you should advise the OMB Desk Officer of your intention to do so as soon as possible. The Desk Officer may be telephoned at (202) 395-3087. (Also, please notify the DOE contact listed in this notice.)

ADDRESSES: Submit comments to DOE Desk Officer, Office Information and Regulatory Affairs (OIRA), Office of Management and Budget, Docket Library, Room 10102, 725 17th Street, NW., Washington, DC 20503.

FOR FURTHER INFORMATION CONTACT: Susan L. Frey, Director, Records Management Division, Office of Records and Business Management, Office of the Chief Information Officer, IM-11/GTN Bldg, U.S. Department of Energy, 1000 Independence Avenue, SW., Washington, DC 20585-1290, (301) 903-3666, or E-mail susan.frey@hq.doe.gov. (Also notify Brenda Scheel, Office of Security, SO-1.12/GTN Bldg, Department of Energy, 1000 Independence Ave., SW., Washington, DC 20585-1290 (301) 903-4098.

SUPPLEMENTARY INFORMATION: The package contains: (1) Title: Security; (2) Current OMB control Number: 1910-1800; (3) Type of Respondents: DOE management and operating contractors, offsite contractors, businesses, and citizens; (4) Estimated number of Responses: 5,886; (5) Estimated Total Burden Hours: 179,452; (6) Purpose: This information is required by the Department to ensure that programmatic and administrative management requirements and resources concerning security are managed efficiently and effectively and to exercise management oversight of DOE contractors; (7) Number of Collections: This package contains 12 information and/or record-keeping requirements.

Statutory Authority: Department of Energy Organization Act, Public Law 95-91, of August 4, 1977.

Issued in Washington, DC, on December 30, 2002.
Susan L. Frey,
Director, Records Management Division, Office of Records and Business Management, Officer of the Chief Information Officer.

[FR Doc. 03-261 Filed 1-6-03; 8:45 am]

BILLING CODE 6450-01-P